DEPARTMENT OF DEFENSE

Defense Acquisition Regulations System

48 CFR Parts 215 and 252

[Docket DARS-2016-0004]

RIN 0750-AI84

Defense Federal Acquisition Regulation Supplement: Independent Research and Development Expenses (DFARS Case 2016-D017)

AGENCY: Defense Acquisition Regulations System, Department of Defense (DoD).

ACTION: Proposed rule; extension of comment period.

SUMMARY: DoD is proposing to amend the Defense Federal Acquisition Regulation Supplement (DFARS) to ensure that substantial future independent research and development expenses, as a means to reduce evaluated bid prices in competitive source selections, are evaluated in a uniform way during competitive source selections. The comment period on the proposed rule is extended 30 days.

DATES: For the proposed rule published on November 4, 2016 (81 FR 78014), submit comments by February 2, 2017.

ADDRESSES: Submit comments identified by DFARS Case 2016-D017, using any of the following methods:

○ Federal eRulemaking Portal: http://www.regulations.gov. Search for “DFARS Case 2016-D017.” Select “Comment Now” and follow the instructions provided to submit a comment. Please include “DFARS Case 2016-D017” on any attached documents.

○ Email: osd.dfars@mail.mil. Include DFARS Case 2016-D017 in the subject line of the message.

○ Fax: 571-372-6094.

○ Mail: Defense Acquisition Regulations System, Attn: Mr. Mark Gomersall, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Mr. Mark Gomersall, Defense Acquisition Regulations System, OUSD(AT&L)DPAP/DARS, Room 3B941, 3060 Defense Pentagon, Washington, DC 20301-3060. Telephone 571-372-6099.

SUPPLEMENTARY INFORMATION:

I. Background

On November 4, 2016, DoD published a proposed rule in the Federal Register at 81 FR 78014 to revise the DFARS to ensure that substantial future independent research and development (IR&D) expenses, used as a means to reduce evaluated bid prices, are evaluated in a uniform way during competitive source selections.

The comment period for the proposed rule is extended 30 days, from January 3, 2017, to February 2, 2017, to provide additional time for interested parties to comment on the proposed DFARS changes.

List of Subjects in 48 CFR Parts 215 and 252

Government procurement.

Jennifer L. Hawes,
Editor, Defense Acquisition Regulations System.

[FR Doc. 2016-30750 Filed 12-21-16; 8:45 am]

BILLING CODE 5001-06-P